DEPARTMENT OF HEALTH AND HUMAN SERVICES

Centers for Disease Control and Prevention

Regional Tribal Consultations

In 2001, a draft Tribal Consultation Policy was published with other Department of Health and Human Services tribal consultation policies. CDC is now seeking further tribal guidance on the proposed CDC policy and its implementation through regional tribal consultations and national meetings. We are inviting elected Tribal leaders, Executive Directors of American Indian/Alaska Native (AI/AN) organizations, Health Directors of AI/AN Programs, and AI/AN community members to attend scheduled Consultation meetings. The intent of this consultation process is to establish a mutually acceptable and more effective process of communication between CDC and AI/AN governments and communities. The goal is to establish protocol and to identify public health problems and priorities so that the needs of AI/AN populations are better incorporated into CDC plans and programs.

SUMMARY: CDC has scheduled a series of Regional Tribal Consultations to occur throughout the United States during the time frame of June through early October 2002. The CDC Regional Tribal Consultations will be geographically linked to the Indian Health Service areas as follows: Aberdeen Area (9/02), Alaska Area (8/23/02), Albuquerque Area (8/02), Bemidji Area (8/02-9/02), Billings Area (8/14/02), California Area (7/19/02), Nashville Area (6/12/02), Navajo Area (8/02), Oklahoma Area (7/9/02), Phoenix & Tucson Areas (7/17/02), and Portland Area (6/21/02). In addition, open forums & national tribal consultations will be scheduled at the following national meetings of AI/AN organizations during late summer and early fall of 2002: the Association of American Indian Physicians (AAIP), the National Alaska Native American Indian Nurses Association (NANAINA), the National Council on Urban Indian Health (NCUIH), the National Indian Health Board (NIHB), the Indian Health Leadership Council, the Self Government Advisory Committee, and the National Congress of American Indians.

Background: The CDC is committed to improving the public health of AI/AN communities, and recognizes both the unique relationship it has with its AI/AN constituents and the cultural diversity of that constituency. To formally guide its efforts to develop and implement a tribal consultation, CDC has established an agency-wide Tribal Consultation Working Group (TCWG), members of which are native and non-native representatives from each of the Centers, Institute, and Offices that compromise CDC and the Agency for Toxic Substances and Disease Registry (ATSDR). In addition to the TCWG, CDC has established two full-time professional staff positions within the Office of the Director to help plan and coordinate CDC programs for AI/AN communities: (1) The CDC Senior Tribal Liaison for Policy and Evaluation and (2) the CDC Senior Tribal Liaison for Science and Public health. Located in Atlanta, GA and Albuquerque, NM, respectively, these CDC staff members report directly to the Associate Director for Minority Health and serve as CDC points-of-contact for programs/issues relevant to issues of AI/AN public health.

The Agency's commitment to AI/AN public health is further demonstrated by the active engagement of more of its professional staff in broader, more systematic efforts to partner with AI/AN communities across the United States. Prominent among these efforts is the placement of CDC staff in situations that enhance tribal access to CDC personnel and resources (e.g., at least 12 CDC professionals field-assigned to work exclusively on AIAN issues in Indian Country). CDC is also expanding its partnerships with the Indian Health Service (IHS) through multiple intra-agency agreements, collaborative projects, and the establishment of the IHS-CDC-ATSDR Senior Policy Group. A priority for IHS-CDC partnerships is the expansion of the Tribal Epidemiology Centers Program. Overall, CDC and its partners (tribal governments and communities, state health departments, academic institutions, and other federal organizations) are addressing multiple health issues that affect AI/AN communities including, but not limited to, diabetes, injuries, tobacco use, cardiovascular health, cancer, maternal-child health, and infectious diseases such as HIV/AIDS, other sexually transmitted diseases, hepatitis, antibiotic-resistant bacterial infections, and hantavirus.

FOR FURTHER INFORMATION CONTACT: To express interest in attending and/or participating in the regional or national consultations and to obtain additional information, contact:

Captain Pelagie “Mike” Snesrud, RN, Senior CDC Tribal Liaison for Policy and Evaluation, Office of the Director, Centers for Disease Control and Prevention, MS-D39, 1600 Clifton Rd, NE, Atlanta, Georgia 30329, Phone: 404-639-0432; Fax: 404-639-2195, Email: pws8@cdc.gov.

or

Captain Ralph T. Bryan, M.D., Senior CDC Tribal Liaison for Science and Public Health, Office of the Director, Centers for Disease Control and Prevention, c/o IHS National Epidemiology Program, 5300 Homestead Rd. NE., Albuquerque, NM 87110, Phone: 505-248-4226; Fax: 505-248-4393, e-mail: rrb2@cdc.gov.

SUPPLEMENTARY INFORMATION: The mission of the CDC is to promote health and quality of life by preventing and controlling disease, injury and disability. CDC accomplishes its mission by working with partners throughout the United States and the world to monitor health, detect and investigate health problems, conduct applied research to enhance prevention, develop and advocate sound public health policies, implement prevention strategies, promote healthy behaviors, foster safe and healthful environments, and provide leadership and training. CDC's priorities are: Strengthen science for public health action, Collaborate with health care partners for prevention, Promote healthy living at all stages of life, and Work with partners to improve global health.

The CDC will honor the sovereignty of American Indian/Alaska Native Governments, respect the inherent rights of self-governance and commit to work on a government-to-government basis. The CDC will confer with Tribal Governments, Alaska Native Organizations and AIAN communities, before taking actions and/or making decisions that affect them. Consultation will include all AI/AN governments and organizations.

As does the Department of Health and Human Services, CDC considers consultation to be “an enhanced form of communication which emphasizes trust, respect and shared responsibility. It is an open and free exchange of information and opinion among parties which leads to mutual understanding and comprehension. Consultation is integral to a deliberative process which results in effective collaboration and informed decision-making.”

Once all Regional Tribal Consultations National meetings are completed, a draft implementation document will be prepared and submitted to the National Indian Health Board, the National Congress of American Indians, and tribal governments for review and final comments. Thereafter, the finalized document will be published in the Federal Register, posted on appropriate federal and AI/AN websites, and made available to AI/AN governments and organizations.

The Director, Management Analysis and Services Office, has been delegated the authority to sign Federal Register notices pertaining to announcements of meetings and other committee management activities, for both the CDC and the ATSDR.

Dated: July 1, 2002.
John C. Burckhardt,
Acting Director, Management Analysis and Services Office, CDC.

[FR Doc. 02-16936 Filed 7-5-02; 8:45 am]

BILLING CODE 4163-18-P